SURFACE TRANSPORTATION BOARD

30-Day Notice of Intent To Seek Reinstatement Without Change: Generic Clearance for the Collection of Qualitative Feedback on Agency Service Delivery

AGENCY: Surface Transportation Board.

ACTION: Notice and request for comments.

SUMMARY: As part of its continuing effort to reduce paperwork burdens, and as required by the Paperwork Reduction Act of 1995 (PRA), the Surface Transportation Board (STB or Board) gives notice that it is requesting from the Office of Management and Budget (OMB) a reinstatement without change of Generic Clearance for the Collection of Qualitative Feedback on Agency Service Delivery. This collection was developed to streamline the process for seeking feedback from the public on the Board's service delivery. The Board previously published a notice about this collection in the Federal Register (Apr. 26, 2018). That notice allowed for a 60-day public review and comment period. No comments were received.

DATES: Comments on this information collection should be submitted by October 10, 2018.

ADDRESSES: Written comments should be identified as “Paperwork Reduction Act Comments, Surface Transportation Board: Generic Clearance for the Collection of Qualitative Feedback on Agency Service Delivery.” These comments should be directed to the Office of Management and Budget, Office of Information and Regulatory Affairs, Attention: Joseph B. Nye, Surface Transportation Board Desk Officer: by email at oira_submission@omb.eop.gov; by fax at (202) 395-1743; or by mail to Room 10235, 725 17th Street NW, Washington, DC 20503. Please also direct comments to Chris Oehrle, PRA Officer, Surface Transportation Board, 395 E Street SW, Washington, DC 20423-0001, or to pra@stb.gov.

FOR FURTHER INFORMATION, CONTACT: For further information regarding this collection, contact Michael Higgins, Deputy Director, Office of Public Assistance, Governmental Affairs, and Compliance at (202) 245-0284 or at michael.higgins@stb.gov. Assistance for the hearing impaired is available through the Federal Information Relay Service (FIRS) at 1-800-877-8339.

SUPPLEMENTARY INFORMATION: For each collection, comments are requested concerning: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information. Submitted comments will be summarized and included in the Board's request for OMB approval.

Description of Collection

Title: Generic Clearance for the Collection of Qualitative Feedback on Agency Service Delivery.

OMB Control Number: 2140-0019.

STB Form Number: None.

Type of Review: Reinstatement without change.

Respondents: Customers and stakeholders of the Board.

Number of Respondents, Frequency, Estimated Time per Response, and Total Burden Hours: A variety of instruments and platforms may be used to collect information from respondents. The estimated annual burden hours (277) are based on the number of collections we expect to conduct over the requested period for this clearance, as set forth in the table below.

Estimated Annual Reporting Burden
Type of collection | Number of respondents | Annual frequency per response | Hours per response | Total hours
Focus Group | 15 | 1 | 2 | 30
Comment Card/Brief Survey | 200 | 2 | .17 | 67
Surveys | 150 | 2 | .6 | 180

Needs and Uses: The proposed information collection activity provides a means to garner qualitative customer and stakeholder feedback in an efficient and timely manner, in accordance with the Administration's commitment to improving service delivery. By qualitative feedback we mean information that provides useful insights on perceptions and opinions, but not statistical surveys that yield quantitative results that can be generalized to the population of study. This feedback will provide insights into customer or stakeholder perceptions, experiences, and expectations; provide an early warning with issues about how the Board provides service to the public; or focus attention on areas where communication, training, or changes in operations might improve delivery of products or services. These collections will allow for ongoing, collaborative, and actionable communications between the Board and its customers and stakeholders. They will also allow feedback to contribute directly to the improvement of program management.

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on the Board's services will be unavailable.

The Board will only process a collection under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future;

• Personally identifiable information is collected only to the extent necessary and is not retained;

• Information gathered is used only internally for general service improvement and program management purposes and not for release outside of the agency;

• Information gathered is used for the purpose of substantially informing influential policy decisions; and

• Information gathered will yield qualitative information, and the collections will not be designed or expected to yield statistically reliable results or used as though the results are generalizable to the population of study.

Feedback collected under this generic clearance will provide useful information, but will not yield data that can be generalized to the overall population. Such data uses would require more rigorous designs than the collections covered by this notice.

As a general matter, information collections will not result in any new system of records containing privacy information and will not ask questions of a sensitive nature, such as sexual behavior and attitudes, religious beliefs, and other matters that are commonly considered private.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information.

Comments submitted in response to this notice may be made available to the public by the Board. For this reason, please do not include in your comments information of a confidential nature, such as sensitive personal information or proprietary information. If you send an electronic comment (e-file or email), your email address is automatically captured and may be accessed if your comments are made public. Please note that responses to this public comment request containing any routine notice about the confidentiality of the communication will be treated as public comments that may be made available to the public notwithstanding the inclusion of the routine notice.

Dated: September 5, 2018.
Jeffrey Herzig,
Clearance Clerk.

[FR Doc. 2018-19510 Filed 9-7-18; 8:45 am]

BILLING CODE 4915-01-P